DEPARTMENT OF AGRICULTURE

Rural Housing Service

Notice of Funds Availability (NOFA) Inviting Applications for the Rural Community Development Initiative (RCDI); Correction

AGENCY: Rural Housing Service, USDA.

ACTION: Correction.

SUMMARY: The Rural Housing Service (RHS) is correcting a notice published April 3, 2002 (67 FR 15777-15786). This action is taken to correct the omission of a comma in the definition of an intermediary. This omission limited the groups eligible to be an intermediary. This correction will carry out the intent of the statutory language. This action is also taken to correct the documentation required for a nonprofit organization to prove their nonprofit status. The original notice required a 501(c)(3) letter from the Internal Revenue Service (IRS) designating their nonprofit status. This correction will allow nonprofit organizations to provide a letter from IRS, a Certificate of Good Standing from the Secretary of State where the entity is located, or other valid documentation of their nonprofit status.

Accordingly, the notice published April 3, 2002 (67 FR 15777-15786) is corrected as follows:

On page 15778, in the first column, in the seventh paragraph under the heading “Definitions for RCDI Purposes,” the definition for “Intermediary” should read “Intermediary—a qualified private, nonprofit or public (including tribal) organization that provides financial and technical assistance to multiple recipients. The applicant entity must have been organized for a minimum of three years.”

On page 15778, in the second column, in the second paragraph, the definition for “Nonprofit organization” should read “Nonprofit organization—a private, community-based housing or community development entity with evidence of their nonprofit status. Examples of valid documentation of nonprofit status include, but are not limited to, a letter from the Internal Revenue Service (IRS) or a Certificate of Good Standing from the Secretary of State where the entity is located.”

On page 15778, in the second column, under the heading “Eligibility Requirements,” number “4” should read “4. Documentation must be submitted to verify recipient eligibility. Acceptable documentation varies depending on the type of recipient: a letter from the IRS, Certificate of Good Standing from the Secretary of State, or other valid documentation of nonprofit status is required for nonprofit recipients; for low-income community recipients, the Agency needs (a) evidence that the entity is a public body and (b) census data verifying that the median household income of the community, where the office receiving the financial and technical assistance is located, is at, or below, 80 percent of the state or national median household income; for federally recognized tribes, the Agency needs the page listing their name from the current Federal Register list of tribal entities recognized and eligible for funding services (see the definition of federally recognized tribes for details on this list).

On page 15778, in the third column, number “14” should read “14. A nonprofit recipient must provide evidence that they are a valid nonprofit when the intermediary applies for the RCDI grant. Organizations with pending requests for nonprofit designations are not eligible.”

On page 15779, in the third column, under the heading “Application Selection Process,” number “2” should read “2. Applicants failed to provide evidence of recipient's status (e.g., documentation supporting nonprofit designation).”

On page 15782, in the third column, number “7.a.” should read “a. Nonprofits—provide a valid letter from the IRS, Certificate of Good Standing from the Secretary of State, or other valid documentation of nonprofit status.”

Dated: May 3, 2002.
Arthur A. Garcia,
Administrator, Rural Housing Service.

[FR Doc. 02-11637 Filed 5-8-02; 8:45 am]

BILLING CODE 3410-XV-P